DEFENSE NUCLEAR FACILITIES SAFETY BOARD

Senior Executive Service Performance Review Board

AGENCY: Defense Nuclear Facilities Safety Board.

ACTION: Notice.

SUMMARY: This notice announces the membership of the Defense Nuclear Facilities Safety Board (DNFSB) Senior Executive Service (SES) Performance Review Board. It also announces the DNFSB senior executives who are available to serve on the SES performance review boards of other small, independent Federal commissions, committees, and boards.

EFFECTIVE DATE: October 24, 2005.

ADDRESSES: Send comments concerning this notice to: Defense Nuclear Facilities Safety Board, 625 Indiana Avenue, NW., Suite 700, Washington, DC 20004-2001.

FOR FURTHER INFORMATION CONTACT: Deborah Biscieglia by telephone at (202) 694-7041 or by e-mail at debbieb@dnfsb.gov.

SUPPLEMENTARY INFORMATION: 5 U.S.C. 4314(c)(1) through (5) requires each agency to establish, in accordance with regulations prescribed by the Office of Personnel Management, one or more performance review boards. The board shall review and evaluate the initial summary rating of the senior executive's performance, the executive's response, and the higher-level official's comments on the initial summary rating. The DNFSB is a small, independent Federal agency; therefore, the members of the DNFSB SES Performance Review Board listed in this notice are drawn from the SES ranks of other agencies.

The following persons comprise a standing roster to serve as members of the Defense Nuclear Facilities Safety Board SES Performance Review Board:

Lawrence W. Roffee, Executive Director, United States Access Board

Gerald J. Smith, President, Barry M. Goldwater Scholarship & Excellence in Education Foundation

Christopher W. Warner, General Counsel, U.S. Chemical Safety and Hazard Investigation Board

Leon A. Wilson, Jr., Executive Director, Committee for Purchase from People Who Are Blind or Severely Disabled

The following DNFSB SES members comprise a standing roster to serve on the performance review boards of other small, independent Federal commissions, committees and boards:

Richard A. Azzaro, General Counsel

Timothy J. Dwyer, Deputy Technical Director

J. Kenton Fortenberry, Technical Director

Kenneth M. Pusateri, General Manager

Joel R. Schapira, Deputy General Counsel

Dated: October 24, 2005.
Kenneth M. Pusateri,
Chairman, Executive Resources Board.

[FR Doc. 05-21701 Filed 10-31-05; 8:45 am]

BILLING CODE 3670-01-P